DEPARTMENT OF THE INTERIOR

National Park Service

[NPS-WASO-NAGPRA-21326; PPWOCRADN0-PCU00RP14.R50000]

Notice of Intent To Repatriate Cultural Items: Stanford University Heritage Services, Palo Alto, CA

AGENCY: National Park Service, Interior.

ACTION: Notice.

SUMMARY: Stanford University Heritage Services, in consultation with the appropriate Indian tribes or Native Hawaiian organizations, has determined that the cultural items listed in this notice meet the definition of unassociated funerary objects. Lineal descendants or representatives of any Indian tribe or Native Hawaiian organization not identified in this notice that wish to claim these cultural items should submit a written request to Stanford University Heritage Services. If no additional claimants come forward, transfer of control of the cultural items to the lineal descendant stated in this notice may proceed.

DATES: Lineal descendants or representatives of any Indian tribe or Native Hawaiian organization not identified in this notice that wish to claim these cultural items should submit a written request with information in support of the claim to Stanford University Heritage Services at the address in this notice by August 4, 2016.

ADDRESSES: Dr. Laura Jones, Stanford University Heritage Services, 3160 Porter Drive, Suite 200, Palo Alto, CA 94304, telephone (650) 723-9664, email ljones@stanford.edu.

SUPPLEMENTARY INFORMATION: Notice is here given in accordance with the Native American Graves Protection and Repatriation Act (NAGPRA), 25 U.S.C. 3005, of the intent to repatriate cultural items under the control of the Stanford University Planning Office, Palo Alto, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In October 1895, 21 cultural items were removed from a historic cemetery in Longville, Plumas County, CA. Excavations were carried out by Stanford University alumna, Mabel Louise Miller in 1895. She is known to have excavated a Native American cemetery abandoned around 1853 and located at a rancheria near Longville, in Plumas County. Miller gave the objects to the Leland Stanford Junior Museum in October 1916, and subsequently, the Museum transferred them to the Stanford University Department of Anthropology. Currently, the objects are housed in the Stanford University Archaeology Collections. The location of the human remains of the individual with whom the objects were placed is not known. The 21 unassociated funerary objects include 1 ferrous knife, 11 shell ornaments, 1 projectile point, 6 flakes, 1 hammerstone, and 1 string of shell beads.

The funerary objects were determined to be affiliated with the Mountain Maidu based on documentation provided by Mabel Miller and consultation with representatives of the Greenville Rancheria (previously listed as the Greenville Rancheria of Maidu Indians of California), the Susanville Indian Rancheria, California, and with individual members of Mountain Maidu groups (Beverly Ogle, Trina Cunningham, and Melany Johnson). Beverly Ogle, whose family had exclusive use of the Longville cemetery, has requested the repatriation of these unassociated funerary objects as a lineal descendant of the individual with whom they were placed and has provided information sufficient to show her lineal descent from the Native American individuals buried in her family's small cemetery during the middle to late 1800s.

Determinations Made by Stanford University Heritage Services

Officials of Stanford University Heritage Services have determined that:

• Pursuant to 25 U.S.C. 3001(3)(B), the 21 cultural items described above are reasonably believed to have been placed with or near individual human remains at the time of death or later as part of the death rite or ceremony and are believed, by a preponderance of the evidence, to have been removed from a specific burial site of a Native American individual.

• Pursuant to 43 CFR 10.10(a)(1) and 43 CFR 10.14(b), Beverly Ogle is a lineal descendant of the individual with whom the 21 unassociated funerary objects were placed, and whose human remains are not under the control of Stanford University Heritage Services.

Additional Requestors and Disposition

Lineal descendants or representatives of any Indian tribe or Native Hawaiian organization not identified in this notice that wish to claim these cultural items should submit a written request with information in support of the claim to Dr. Laura Jones, Stanford University Heritage Services, 3160 Porter Drive, Suite 200, Palo Alto, CA 94304, telephone (650) 723-9664, email ljones@stanford.edu, by August 4, 2016. After that date, if no additional claimants have come forward, transfer of control of the unassociated funerary objects to Beverly Ogle may proceed.

Stanford University Heritage Services is responsible for notifying Beverly Ogle, Trina Cunningham, and Melany Johnson that this notice has been published.

Dated: June 16, 2016.
Melanie O'Brien,
Manager, National NAGPRA Program.

[FR Doc. 2016-15838 Filed 7-1-16; 8:45 am]

BILLING CODE 4312-50-P